DEPARTMENT OF TRANSPORTATION

Federal Aviation Administration

Premium War Risk Insurance

AGENCY: Federal Aviation Administration, DOT.

ACTION: Notice of extension of aviation insurance.

SUMMARY: This notice contains the text of a memorandum from the Secretary of Transportation to the President regarding the extension of the provision of aviation insurance coverage for U.S. flag commercial air carrier service in domestic and international operations.

DATES: Dates of extension from August 31, 2004, through December 31, 2004.

FOR FURTHER INFORMATION CONTACT: Helen Kish, Program Analyst, APO-3, or Eric Nelson, Program Analyst, APO-3, Federal Aviation Administration, 800 Independence Ave., SW., Washington, DC 20591, telephone 202-267-9943 or 202-267-3090. Or online at FAA Insurance Web site: http://insurance.faa.gov.

SUPPLEMENTARY INFORMATION: On July 30, 2004, the Secretary of Transportation authorized a 60-day extension of aviation insurance provided by the Federal Aviation Administration as follows:

MEMORANDUM FOR THE PRESIDENT

Pursuant to the authority delegated to me by the President in paragraph (3) of Presidential Order 2004-13 of December 11, 2003, I have extended the determination to allow for the provision of aviation insurance and reinsurance coverage for U.S. Flag commercial air carrier service in domestic and international operations through December 31, 2004.

Pursuant to section 44306(c) of Chapter 443 of 49 U.S.C., Aviation Insurance, the period for provision of insurance shall be extended from August 31, 2004, through December 31, 2004.

Norman Y. Mineta

Affected Public: Air Carriers who currently have premium war risk insurance with the Federal Aviation Administration.

Issued in Washington, DC on August 4, 2004.
John M. Rodgers,
Director, Aviation Insurance Program Office.

[FR Doc. 04-18402 Filed 8-10-04; 8:45 am]

BILLING CODE 4910-13-M